DEPARTMENT OF TRANSPORTATION

Federal Railroad Administration

Petition for Waiver of Compliance

Pursuant to title 49 Code of Federal Regulations (CFR) part 235 and 49 U.S.C. 20502(a), the following railroad has petitioned the Federal Railroad Administration (FRA) seeking approval for the discontinuance or modification of the signal system or relief from the requirements of 49 CFR part 236, as detailed below.

Docket Number FRA-1998-4821

Applicant: Mr. Timothy R. Luhm, Canadian National, Manager S&C, 17641 South Ashland Avenue, Homewood, Illinois 60430.

The Canadian National (CN) seeks an extension for an additional 5 years of a waiver on the former Duluth, Missabe and Iron Range Railway Company (DMIR) that permits the railroad to utilize wheel counters to detect trains over the spans of their steel deck bridges. This waiver was granted by FRA on January 29, 2001, was renewed on April 25, 2006, and will currently expire on April 25, 2011. In addition to the extension, CN requests that the allowable maximum authorized speed over the subject bridges be increased from 25 miles per hour (mph) to 40 mph.

The Applicant's justification for the request is that during the past 10 years in which the wheel counters have been in service on the DMIR, no incidents have occurred at the location of the wheel counter devices. Any failures in the wheel counter devices have been failsafe, resulting in train operations at restricted speed. During the past 10 years, no broken rails occurred on the bridges where such systems are installed. As for the increase in maximum authorized speed from 25 to 40 mph, CN states that train handling will be improved and safety enhanced due to less frequent speed transitions. In addition, steel-deck bridges on the DMIR in signaled territory that have traditional signal system trap circuits are not restricted in maximum authorized speed.

Any interested party desiring to protest the granting of an application shall set forth specifically the grounds upon which the protest is made, and include a concise statement of the interest of the party in the proceeding. Additionally, one copy of the protest shall be furnished to the applicant at the address listed above.

FRA expects to be able to determine these matters without an oral hearing. However, if a specific request for an oral hearing is accompanied by a showing that the party is unable to adequately present his or her position by written statements, an application may be set for public hearing.

All communications concerning this proceeding should be identified by Docket Number FRA-1998-4821 and may be submitted by one of the following methods:

• Web site: http://www.regulations.gov Follow the instructions for submitting comments on the DOT electronic site;

• Fax: 202-493-2251;

• Mail: Docket Management Facility, U.S. Department of Transportation, 1200 New Jersey Avenue, SE., West Building Ground Floor, Room W12-140, Washington, DC 20590; or

• Hand Delivery: Room W12-140 of the U.S. Department of Transportation West Building Ground Floor, 1200 New Jersey Avenue, SE., Washington, DC, between 9 a.m. and 5 p.m., Monday through Friday, except Federal holidays.

Communications received within 30 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://www.regulations.gov.

FRA wishes to inform all potential commenters that anyone is able to search the electronic form of all comments received into any of our dockets by the name of the individual submitting the comment (or signing the comment, if submitted on behalf of an association, business, labor union, etc.). You may review DOT's complete Privacy Act Statement in the Federal Register published on April 11, 2000 (65 FR 19477) or at http://www.dot.gov/privacy.html.

Issued in Washington, DC, on August 9, 2010.
Robert C. Lauby,
Deputy Associate Administrator for Regulatory and Legislative Operations.

[FR Doc. 2010-19998 Filed 8-12-10; 8:45 am]

BILLING CODE 4910-06-P